NUCLEAR REGULATORY COMMISSION

[Docket No. 50-390; NRC-2015-0162]

Tennessee Valley Authority; Watts Bar Nuclear Plant, Unit 1; Application and Amendment to Facility Operating License; Correction

AGENCY: Nuclear Regulatory Commission.

ACTION: License amendment application; opportunity to request a hearing and to petition for leave to intervene; correction.

SUMMARY: The U.S. Nuclear Regulatory Commission (NRC) is correcting a notice that was published in the Federal Register (FR) on July 7, 2015, regarding the opportunity to request a hearing and to petition for leave to intervene on a request to amend the facility operating license of the Watts Bar Nuclear Plant, Unit 1. This action is necessary to include an additional supplement that corrected a typographical error in the original license amendment request that was erroneously omitted in the notice dated July 7, 2015.

DATES: The correction is effective April 22, 2016.

ADDRESSES: Please refer to Docket ID NRC-2015-0162 when contacting the NRC about the availability of information regarding this document. You may obtain publicly-available information related to this document using any of the following methods:

• Federal Rulemaking Web site: Go to http://www.regulations.gov and search for Docket ID NRC-2015-0162. Address questions about NRC dockets to Carol Gallagher; telephone: 301-415-3463; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that a document is referenced.

• NRC's PDR: You may examine and purchase copies of public documents at the NRC's PDR, Room O1-F21, One White Flint North, 11555 Rockville Pike, Rockville, Maryland 20852.

FOR FURTHER INFORMATION CONTACT: Jeanne Dion, Office of Nuclear Reactor Regulation, U.S. Nuclear Regulatory Commission, Washington, DC 20555-0001; telephone: 301-415-1349, email: Jeanne.Dion@nrc.gov.

SUPPLEMENTARY INFORMATION: In the FR on July 7, 2015, in FR Doc. 2015-16541, on page 38755, column 1, line 1, correct “amendment dated March 31, 2015, as supplemented on May 27 and June 15, 2015 (available in ADAMS under Accession Nos. ML15098A446, ML15147A611, and ML15167A359, respectively)” to read “amendment dated March 31, 2015, as supplemented on April 28, May 27, and June 15, 2015 (available in ADAMS under Accession Nos. ML15098A446, ML15124A334, ML15147A611, and ML15167A359, respectively).”

Dated at Rockville, Maryland, this 15th day of April 2016.
For the Nuclear Regulatory Commission.
Jeanne Dion,
Project Manager, Plant Licensing Branch, III-2, Division of Operating Reactor Licensing, Office of Nuclear Reactor Regulation.

[FR Doc. 2016-09424 Filed 4-21-16; 8:45 am]

BILLING CODE 7590-01-P